DEPARTMENT OF ENERGY

Western Area Power Administration

Pacific Northwest-Pacific Southwest Intertie Project—Rate Order No. WAPA-192

AGENCY: Western Area Power Administration, DOE.

ACTION: Notice of rate order extending Pacific Northwest-Pacific Southwest Intertie Project transmission service rates.

SUMMARY: The extension of existing Pacific Northwest-Pacific Southwest Intertie Project transmission service rates has been confirmed, approved, and placed into effect on an interim basis. The existing transmission service rates under Rate Schedules INT-FT5 and INT-NFT4 were set to expire on September 30, 2020. This rate extension makes no change to the existing transmission service rates and extends them through September 30, 2023.

DATES: The extended transmission service rates under Rate Schedules INT-FT5 and NFT-4 will be placed into effect on an interim basis on October 1, 2020.

FOR FURTHER INFORMATION CONTACT: Tracey A. LeBeau, Regional Manager, Desert Southwest Region, Western Area Power Administration, P.O. Box 6457, Phoenix, AZ 85005-6457, telephone (602) 605-2525, or email: dswpwrmrk@wapa.gov; or Tina Ramsey, Rates Manager, Desert Southwest Region, Western Area Power Administration, telephone (602) 605-2565, or email: ramsey@wapa.gov.

SUPPLEMENTARY INFORMATION:

Legal Authority

By Delegation Order No. 00-037.00B, effective November 19, 2016, the Secretary of Energy delegated: (1) The authority to develop power and transmission rates to the Western Area Power Administration's (WAPA) Administrator; (2) the authority to confirm, approve, and place such rates into effect on an interim basis to the Deputy Secretary of Energy; and (3) the authority to confirm, approve on a final basis, remand, or disapprove such rates to the Federal Energy Regulatory Commission (FERC). In Delegation Order No. 00-002.00S, effective January 15, 2020, the Secretary of Energy also delegated the authority to confirm, approve, and place such rates into effect on an interim basis to the Under Secretary of Energy. By Redelegation Order No. 00-002.10E, effective February 14, 2020, the Under Secretary of Energy further delegated the authority to confirm, approve, and place such rates into effect on an interim basis to the Assistant Secretary for Electricity. By Redelegation Order No. 00-002.10-05, effective July 8, 2020, the Assistant Secretary for Electricity further delegated the authority to confirm, approve, and place such rates into effect on an interim basis to WAPA's Administrator. This rate action is issued under the Redelegation Order No. 00-002.10-05 and Department of Energy's (DOE) rate extension procedures set forth at 10 CFR 903.23(a).¹

¹ 50 FR 37835 (Sept. 18, 1985) and 84 FR 5347 (Feb. 21, 2019).

Following DOE's review of WAPA's proposal, I hereby confirm, approve, and place Rate Order No. WAPA-192 into effect on an interim basis. This extends, without adjustment, existing Rate Schedules INT-FT5 and INT-NFT4 through September 30, 2023. WAPA will submit Rate Order No. WAPA-192 and the extended rate schedules to FERC for confirmation and approval on a final basis.

Signing Authority

This document of the Department of Energy was signed on August 25, 2020, by Mark A. Gabriel, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 31, 2020.
Treena V. Garrett,
Federal Register Liaison Officer, U.S. Department of Energy.

Department of Energy Administrator, Western Area Power Administration

In the Matter of: Western Area Power Administration Extension of Pacific Northwest-Pacific Southwest Intertie Project Transmission Service Rate Schedules, Rate Order No. WAPA-192.

ORDER CONFIRMING, APPROVING, AND PLACING THE TRANSMISSION SERVICE RATES FOR THE PACIFIC NORTHWEST-PACIFIC SOUTHWEST INTERTIE PROJECT INTO EFFECT ON AN INTERIM BASIS

The transmission service rates in Rate Order No. WAPA-192 are established following section 302 of the Department of Energy (DOE) Organization Act (42 U.S.C. 7152).²

² This Act transferred to, and vested in, the Secretary of Energy the power marketing functions of the Secretary of the Department of the Interior and the Bureau of Reclamation (Reclamation) under the Reclamation Act of 1902 (ch. 1093, 32 Stat. 388), as amended and supplemented by subsequent laws, particularly section 9(c) of the Reclamation Project Act of 1939 (43 U.S.C. 485h(c)) and section 5 of the Flood Control Act of 1944 (16 U.S.C. 825s); and other acts that specifically apply to the projects involved.

By Delegation Order No. 00-037.00B, effective November 19, 2016, the Secretary of Energy delegated: (1) The authority to develop power and transmission rates to the Western Area Power Administration's (WAPA) Administrator; (2) the authority to confirm, approve, and place into effect such rates on an interim basis to the Deputy Secretary of Energy; and (3) the authority to confirm, approve on a final basis, remand, or disapprove such rates to the Federal Energy Regulatory Commission (FERC). By Delegation Order No. 00-002.00S, effective January 15, 2020, the Secretary of Energy also delegated the authority to confirm, approve, and place such rates into effect on an interim basis to the Under Secretary of Energy. By Redelegation Order No. 00-002.10E, effective February 14, 2020, the Under Secretary of Energy further delegated the authority to confirm, approve, and place such rates into effect on an interim basis to the Assistant Secretary for Electricity. By Redelegation Order No. 00-002.10-05, effective July 8, 2020, the Assistant Secretary for Electricity further delegated the authority to confirm, approve, and place such rates into effect on an interim basis to WAPA's Administrator. This extension is issued under the Redelegation Order No. 00-002.10-05 and DOE's rate extension procedures set forth at 10 CFR 903.23(a).³

³ 50 FR 37835 (Sept. 18, 1985) and 84 FR 5347 (Feb. 21, 2019).

Background

On August 22, 2013, FERC approved and confirmed Rate Schedules INT-FT5 and INT-NFT4 under Rate Order No. WAPA-157 on a final basis for a 5-year period beginning May 1, 2013 and ending April 30, 2018.⁴ These rate schedules apply to the Pacific Northwest-Pacific Southwest Intertie Project firm transmission service rates. WAPA's Administrator approved the use of existing Pacific Northwest-Pacific Southwest Intertie Project rates under his authority to set rates for short-term sales to cover the period between May 1, 2018 and October 31, 2018. On December 3, 2018, FERC approved and confirmed the extension of Rate Schedules INT-FT5 and INT-NFT4 under Rate Order No. WAPA-181 through September 30, 2020.⁵ The existing rates provide adequate revenue to recover annual expenses, including interest expense, and repay capital investments within allowable time periods. This ensures repayment within the cost recovery criteria set forth in DOE Order RA 6120.2.

⁴ Order Confirming and Approving Rate Schedule on a Final Basis, FERC Docket No. EF13-4-000, 144 FERC ¶ 61,143 (2013).

⁵ Order Confirming and Approving Rate Schedule on a Final Basis, FERC Docket No. EF18-5-000, 165 FERC ¶ 62,137 (2018).

Discussion

In accordance with 10 CFR 903.23(a), WAPA filed a notice in the Federal Register on June 22, 2020, proposing to extend, without adjustment, Rate Schedules INT-FT5 and INT-NFT4 under Rate Order No. WAPA-192.⁶ WAPA determined it was not necessary to hold public information or public comment forums on the proposed transmission service rates extension but provided a 30-day consultation and comment period to give the public an opportunity to comment on the proposed extension. The consultation and comment period ended on July 22, 2020, and WAPA received no comments on the proposed transmission service rates extension.

⁶ 85 FR 37450 (Jun. 22, 2020).

Submission to the Federal Energy Regulatory Commission

The provisional transmission service rates herein confirmed, approved, and placed into effect on an interim basis, together with supporting documents, will be submitted to FERC for confirmation and final approval.

Order

In view of the above and under the authority delegated to me, I hereby confirm, approve, and place into effect, on an interim basis, Rate Order No. WAPA-192, which extends the existing transmission service rates under Rate Schedules INT-FT5 and INT-NFT4 through September 30, 2023. The rates will remain in effect on an interim basis until: (1) FERC confirms and approves this extension on a final basis; (2) subsequent rates are confirmed and approved; or (3) such rates are superseded.

Signed in Lakewood, CO, on August 25, 2020.

Mark A. Gabriel,

Administrator.

[FR Doc. 2020-19513 Filed 9-2-20; 8:45 am]

BILLING CODE 6450-01-P